DEPARTMENT OF AGRICULTURE

Animal and Plant Health Inspection Service

7 CFR Part 319

[Docket No. 02-026-6]

Importation of Fruits and Vegetables; Correction

AGENCY: Animal and Plant Health Inspection Service, USDA.

ACTION: Final rule; correction.

SUMMARY: In a final rule published in the Federal Register on June 25, 2003, we amended the fruits and vegetables regulations. The final rule contained errors in the rule portion of the document. This document corrects those errors.

EFFECTIVE DATE: June 25, 2003.

FOR FURTHER INFORMATION CONTACT: Mr. Wayne Burnett, Senior Import Specialist, PPQ, APHIS, 4700 River Road Unit 140, Riverdale, MD 20737-1236; (301) 734-6799.

SUPPLEMENTARY INFORMATION: We published a final rule in the Federal Register on June 25, 2003 (68 FR 37904-37923, Docket No. 02-026-4) to amend the fruits and vegetables regulations (7 CFR 319.56 through 319.56-8, referred to below as the regulations). In the rule portion of that final rule, we inadvertently reversed the order of the words “latitude” and “longitude” in an amendment to § 319.56-2d, “Administrative instructions for cold treatments of certain imported fruits.” Rather than referring to “39° longitude and east of 104° latitude,” we should have referred to 39° latitude and east of 104° longitude.” This document corrects that error.

We are also correcting an error in the table in § 319.56-2t under the entry for basil from Honduras. The additional declaration referred to in that entry should state that the “commodity is free from Planococcus minor” rather than the “fruit is free from Planococcus minor.”

In FR Doc. 03-15908, published on June 25, 2003 (68 FR 37904-37923, Docket No. 02-026-4), make the following corrections:

§ 319.56-2d [Corrected]

1. On page 37917, in the first column, in § 319.56-2d, in paragraph (b)(1), correct “39° longitude and east of 104° latitude” to read “39° latitude and east of 104° longitude”.

§ 319.56-2t [Corrected]

2. On page 37919, in § 319.56-2t, in the table, under the entry for basil from Honduras, correct “fruit is free from Planococcus minor” to read “commodity is free from Planococcus minor”.

Done in Washington, DC, this 5th day of November 2003.
Peter Fernandez,
Acting Administrator, Animal and Plant Health Inspection Service.

[FR Doc. 03-28293 Filed 11-10-03; 8:45 am]

BILLING CODE 3410-34-P